DEPARTMENT OF LABOR

Mine Safety and Health Administration

30 CFR Part 57

RIN 1219-AB29

Diesel Particulate Matter Exposure of Underground Metal and Nonmetal Miners

AGENCY: Mine Safety and Health Administration (MSHA), Labor.

ACTION: Proposed rule; notice of public hearings; close of comment period.

SUMMARY: This document announces the addition of a fourth public hearing to receive comment on the proposed rule addressing diesel particulate matter exposure of underground metal and nonmetal miners published in the Federal Register on August 14, 2003 (68 FR 48668).

DATES: Post-hearing comments must be received on or before October 14, 2003. For dates of the public hearings, see the SUPPLEMENTARY INFORMATION section.

ADDRESSES: Please identify your request to make an oral presentation or comments by Docket ID Number [RIN 1219-AB29]. Submit your request or comments to MSHA by any of the following methods:

• Fax to: 202-693-9441.

• Mail to: Marvin W. Nichols, Jr., Director, Office of Standards, Regulations, and Variances, Mine Safety and Health Administration, 1100 Wilson Boulevard, Room 2352, Arlington, Virginia 22209-3939.

• Hand delivery or Courier to: Office of Standards, Regulations, and Variances, Mine Safety and Health Administration, 1100 Wilson Boulevard, Room 2350, Arlington, Virginia.

For access to the docket to read comments received, go to http://www.msha.gov/currentcomments.htm and/or the Office of Standards, Regulations, and Variances, Mine Safety and Health Administration, Room 2309, 1100 Wilson Boulevard, Arlington, Virginia.

For locations of the public hearings, see the SUPPLEMENTARY INFORMATION section.

FOR FURTHER INFORMATION CONTACT: Marvin W. Nichols, Jr., Director, Office of Standards, Regulations and Variances, MSHA; phone: (202) 693-9440; facsimile: (202) 693-9441; E-mail: nichols-marvin@msha.gov.

SUPPLEMENTARY INFORMATION:

I. Background

On August 14, 2003 (68 FR 48668), we published a proposed rule in the Federal Register that would revise the existing diesel particulate matter (DPM) interim concentration limit measured by total carbon (TC) to a comparable permissible exposure limit (PEL) measured by elemental carbon (EC) which renders a more accurate DPM exposure measurement; increase flexibility of compliance by requiring MSHA's longstanding hierarchy of controls for its other exposure-based health standards at metal and nonmetal mines, but prohibit rotation of miners for compliance; allow MSHA to consider economic as well as technological feasibility in determining if operators qualify for an extension of time in which to meet the DPM limits; and simplify requirements for a DPM control plan. The proposed rule would also make conforming changes to existing provisions concerning compliance determination, environmental monitoring and recordkeeping.

II. Public Hearings

In the Federal Register notice published on August 14, 2003, (68 FR 48668), we announced that we would hold three public hearings on the proposed rule. However, since that time, we have added a fourth public hearing. Please note the date below.

The public hearings will begin at 9 a.m. and will end after the last scheduled speaker testifies. The hearings will be held on the following dates and at the locations indicated.

Date | Location | Phone
September 16, 2003 | University Park Marriott, 480 Wakara Way, Salt Lake City, UT 84108 | (801) 581-1000
September 18, 2003 | Renaissance St. Louis Hotel Airport, 9801 Natural Bridge Road, St. Louis, MO 63134 | (314) 429-1100
September 23, 2003 | Hilton Pittsburgh, 600 Commonwealth Place, Pittsburgh, PA 15222 | (412) 391-4600
October 7, 2003 | U.S. Department of Labor, Mine Safety and Health Administration, 1100 Wilson Boulevard, MSHA Conference Room, 25th Floor, Arlington, VA 22209 | (202) 693-9440

The hearings will begin with an opening statement from MSHA, followed by an opportunity for members of the public to make oral presentations to a panel. You do not have to make a written request to speak. Speakers will speak in the order that they sign in. Any unallotted time will be made available for persons making same-day requests. At the discretion of the presiding official, the time allocated to speakers for their presentation may be limited. Speakers and other attendees may also present information to the MSHA panel for inclusion in the rulemaking record.

The hearings will be conducted in an informal manner. The hearing panel may ask questions of speakers. Although formal rules of evidence or cross examination will not apply, the presiding official may exercise discretion to ensure the orderly progress of the hearing and may exclude irrelevant or unduly repetitious material and questions.

A verbatim transcript of the proceedings will be included in the rulemaking record. Copies of this transcript will be available to the public, and can be viewed at http://www.msha.gov.

MSHA will accept post-hearing written comments and other appropriate data for the record from any interested party, including those not presenting oral statements, prior to the close of the comment period on October 14, 2003.

Dated: August 21, 2003.
John R. Correll,
Deputy Assistant Secretary of Labor for Mine Safety and Health.

[FR Doc. 03-21886 Filed 8-22-03; 1:35 pm]

BILLING CODE 4510-43-P